DEPARTMENT OF THE INTERIOR

Bureau of Land Management

[AK-932-1430-ET; A-062024]

Proposed Extension of Withdrawal and Opportunity for Public Meeting; Alaska

AGENCY: Bureau of Land Management, Interior.

ACTION: Notice.

SUMMARY: The Bureau of Land Management (BLM) proposes to extend the withdrawal for 730.13 acres of public land known as the Campbell Tract Administrative Site, for an additional 20 years. The land is withdrawn from all forms of appropriation under the public land laws by Public Land Order (PLO) No. 6127, until February 11, 2002. The purpose of the extension is to protect the existing Bureau of Land Management Campbell Tract Administrative Site. This Notice gives an opportunity to comment on the proposed action and to request a public meeting.

DATE: Comments and requests for a public meeting must be received by August 24, 2000.

ADDRESSES: Comments and meeting requests should be sent to the Alaska State Director, BLM Alaska State Office, 222 W. 7th Avenue, No. 13, Anchorage, Alaska 99513-7599.

FOR FURTHER INFORMATION CONTACT: Susan J. Lavin, BLM Alaska State Office, 907-271-5049.

SUPPLEMENTARY INFORMATION: On April 28, 2000, a petition was approved allowing the Bureau of Land Management to file an application to extend the PLO No. 6127 withdrawal for the Campbell Tract Administrative Site, as it affects the following described land, for an additional 20 years:

Seward Meridian

T. 12 N., R. 3 W.

Sec. 2, W½W½E½NW¼, W½NW¼, W½E½W½SW¼, W½W½SW¼;

Sec. 3, Lots 1 through 4, inclusive, S½N½NE¼NE¼, S½NE¼NE¼, S½SE¼NW¼NE¼, S½NE¼, SE¼SE¼NW¼, S½NE¼SE¼NW¼, S½SW¼SE¼NW¼, SW¼, E½SE¼;

Sec. 10, NE¼NE¼, E½NW¼NE¼, NW¼NW¼NE¼, N½SW¼NW¼NE¼, N½N½N½NW¼;

Sec. 11, NW¼NW¼NW¼, W½SW¼NW¼NW¼.

The area described contains 730.13 acres.

For a period of 90 days from the date of publication of this notice, all persons who wish to submit comments, suggestions, or objections in connection with the proposed withdrawal extension may present their views in writing to the Alaska State Director of the Bureau of Land Management.

Notice is hereby given that an opportunity for a public meeting is afforded in connection with the proposed extension. All interested persons who desire a public meeting for the purpose of being heard on the proposed withdrawal extension must submit a written request to the Alaska State Director within 90 days from the date of publication of this notice. If the authorized officer determines that a public meeting will be held, a notice of the time and place will be published in the Federal Register, at least 30 days before the scheduled date of the meeting.

This application will be processed in accordance with the regulations set forth in 43 CFR part 2300. The land will continue to be subject to the terms and conditions of PLO No. 6127, until February 11, 2002.

Dated: May 16, 2000.
Donald W. Baggs,
Lands and Minerals Group Supervisor, Division of Lands, Minerals, and Resources.

[FR Doc. 00-12884 Filed 5-25-00; 8:45 am]

BILLING CODE 4310-JA-P